DEPARTMENT OF TRANSPORTATION

Office of the Secretary

Aviation Proceedings, Agreements Filed the Week Ending March 28, 2009

The following Agreements were filed with the Department of Transportation under Sections 412 and 414 of the Federal Aviation Act, as amended (49 U.S.C. 1383 and 1384) and procedures governing proceedings to enforce these provisions. Answers may be filed within 21 days after the filing of the application.

Docket Number: DOT-OST-2009-0073.

Date Filed: March 23, 2009.

Parties: Members of the International Air Transport Association.

Subject: TC1 Caribbean, Longhaul, Within South America Flex Fares Package—Resolutions (Memo 0391). Intended effective date: 1 July 2009.

Barbara J. Hairston,
Supervisory Dockets Officer, Docket Operations, Alternate Federal Register Liaison.

[FR Doc. E9-7962 Filed 4-7-09; 8:45 am]

BILLING CODE 4910-9X-P